DEPARTMENT OF COMMERCE

International Trade Administration

[A-201-842]

Large Residential Washers From Mexico: Final Results of the Antidumping Duty Administrative Review; 2014-2015

AGENCY: Enforcement and Compliance, International Trade Administration, Department of Commerce.

SUMMARY: On March 11, 2016, the Department of Commerce (the Department) published the preliminary results of the second administrative review of the antidumping duty (AD) order on large residential washers (LRWs) from Mexico. The review covers one producer/exporter of the subject merchandise: Electrolux Home Products Corp. N.V. and Electrolux Home Products de Mexico, S.A. de C.V. (collectively, Electrolux). We gave interested parties an opportunity to comment. After reviewing the comments received, we continue to find that Electrolux made sales of subject merchandise to the United States at prices below normal value. Electrolux's final dumping margin is listed below in the section entitled “Final Results of the Review.”

DATES: Effective September 12, 2016.

FOR FURTHER INFORMATION CONTACT: Brian Smith or Brandon Custard, AD/CVD Operations, Office II, Enforcement and Compliance, International Trade Administration, U.S. Department of Commerce, 14th Street and Constitution Avenue NW., Washington, DC 20230; telephone: (202) 482-1766 or (202) 482-1823, respectively.

SUPPLEMENTARY INFORMATION:

Background

The review covers one producer/exporter of the subject merchandise: Electrolux. On March 11, 2016, the Department published the Preliminary Results.¹ Based on our analysis of the comments received from Whirlpool Corporation (the petitioner) and Electrolux, we are not changing the weighted-average dumping margin calculated for Electrolux in the Preliminary Results. The Department conducted this administrative review in accordance with section 751 of the Tariff Act of 1930, as amended (the Act).

¹ See Large Residential Washers From Mexico: Preliminary Results of the Antidumping Duty Administrative Review; 2014-2015, 81 FR 12873 (March 11, 2016) (Preliminary Results).

Scope of the Order

The products covered by the order are all large residential washers and certain subassemblies thereof from Mexico. The products are currently classifiable under subheadings 8450.20.0040 and 8450.20.0080 of the Harmonized Tariff System of the United States (HTSUS). Products subject to this order may also enter under HTSUS subheadings 8450.11.0040, 8450.11.0080, 8450.90.2000, and 8450.90.6000. Although the HTSUS subheadings are provided for convenience and customs purposes, the written description of the merchandise subject to this scope is dispositive.²

² A full description of the scope of the order is contained in the Memorandum to Paul Piquado, “Issues and Decision Memorandum for the Final Results of the Antidumping Duty Administrative Review of Large Residential Washers from Mexico,” dated concurrently with this notice (Issues and Decision Memorandum).

Analysis of Comments Received

All issues raised in the case and rebuttal briefs are addressed in the Issues and Decision Memorandum. A list of the issues which parties raised and to which we respond in the Issues and Decision Memorandum is attached to this notice as Appendix I.

Period of Review

The period of review is February 1, 2014, through January 31, 2015.

Final Results of the Review

Based on our analysis of the comments received, we did not make any changes to the weighted-average dumping margin calculated for Electrolux in the Preliminary Results. Therefore, we are assigning the following weighted-average dumping margin for the period February 1, 2014, through January 31, 2015:

—
Manufacturer/exporter | Weighted- average dumping margin (percent)
Electrolux Home Products Corp. NV/Electrolux Home Products de Mexico, S.A. de C.V | 2.47

We intend to disclose the calculations performed within five days of the date of publication of this notice to parties in this proceeding in accordance with 19 CFR 351.224(b).

Assessment Rates

Pursuant to section 751(a)(2)(C) of the Act, and 19 CFR 351.212(b)(1), the Department has determined, and CBP shall assess, antidumping duties on all appropriate entries of subject merchandise in accordance with the final results of this review. The Department intends to issue appropriate assessment instructions directly to CBP 41 days after publication of the final results of this administrative review.

For Electrolux, the Department calculated ad valorem importer-specific assessment rates equal to the total amount of dumping calculated for the importer's examined sales and the total entered value of those sales. Where an importer-specific assessment rate is zero or de minimis (i.e., less than 0.5 percent), the Department will instruct CBP to liquidate these entries without regard to antidumping duties pursuant to 19 CFR 351.106(c)(2).

If applicable, this clarification will apply to entries of subject merchandise during the POR produced by Electrolux, for which the company did not know that its merchandise was destined for the United States.³ In such instances, we will instruct CBP to liquidate these entries at the all-others rate established in the less-than fair-value (LTFV) investigation, 36.52 percent,⁴ if there is no rate for the intermediary involved in the transaction.

³ See Antidumping and Countervailing Duty Proceedings: Assessment of Antidumping Duties, 68 FR 23954 (May 6, 2003) (Assessment Policy Notice).

⁴ See Large Residential Washers From Mexico and the Republic of Korea: Antidumping Duty Orders, 78 FR 11148 (February 15, 2013) (AD Order).

Cash Deposit Requirements

The following deposit requirements will be effective upon publication of the notice of final results of administrative review for all shipments of the subject merchandise entered, or withdrawn from warehouse, for consumption on or after the date of publication, as provided by section 751(a)(2)(C) of the Act: (1) The cash deposit rate for Electrolux will be equal to the weighted-average dumping margin established in the final results of this administrative review; (2) for merchandise exported by manufacturers or exporters not covered in this administrative review but covered in a prior segment of the proceeding, the cash deposit rate will continue to be the company-specific rate published for the most recently-completed segment; (3) if the exporter is not a firm covered in this review, a prior review, or the original LTFV investigation, but the manufacturer is, the cash deposit rate will be the rate established for the most recently-completed segment of this proceeding for the manufacturer of the merchandise; and (4) the cash deposit rate for all other manufacturers or exporters will continue to be 36.52 percent, the all-others rate determined in the LTFV investigation.⁵ These cash deposit requirements, when imposed, shall remain in effect until further notice.

⁵ Id.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751(a)(1) and 777(i)(1) of the Act and 19 CFR 351.213(h) and 351.221(b)(5) of the Department's regulations.

Dated: August 30, 2016.
Paul Piquado,
Assistant Secretary for Enforcement and Compliance.

Appendix I

List of Topics Discussed in the Issues and Decision Memorandum

I. Summary

II. Background

III. Margin Calculations

IV. Scope of the Order

V. Discussion of Issues

1. Zeroing

2. Methodological Issues in the Differential Pricing Analysis

VI. Recommendation

[FR Doc. 2016-21500 Filed 9-9-16; 8:45 a.m.]

BILLING CODE 3510-DS-P